DEPARTMENT OF ENERGY

Federal Energy Regulatory Commission

Combined Notice of Filings #2

Take notice that the Commission received the following exempt wholesale generator filings:

Docket Numbers: EG25-314-000.

Applicants: Wilkinson Barker Knauer LLP, St. Gall Energy Storage II LLC.

Description: St. Gall Energy Storage II LLC submits Notice of Self-Certification of Exempt Wholesale Generator Status.

Filed Date: 5/8/25.

Accession Number: 20250508-5035.

Comment Date: 5 p.m. ET 5/29/25.

Docket Numbers: EG25-315-000.

Applicants: Wilkinson Barker Knauer LLP, Tidwell Prairie IA LLC.

Description: Tidwell Prairie IA LLC submits Notice of Self-Certification of Exempt Wholesale Generator Status.

Filed Date: 5/8/25.

Accession Number: 20250508-5036.

Comment Date: 5 p.m. ET 5/29/25.

Take notice that the Commission received the following electric rate filings:

Docket Numbers: ER10-1838-014; ER10-1616-022; ER10-1967-015; ER10-1968-014; ER10-1990-014; ER10-1993-014; ER18-552-007; ER18-1821-014; ER19-2231-011; ER19-2232-011; ER22-46-010; ER22-1402-007; ER22-1404-007; ER22-2713-005; ER24-762-006.

Applicants: Elevate Renewables F7, LLC, Parkway Generation Sewaren Urban Renewal Entity LLC, Parkway Generation Operating LLC, Parkway Generation Keys Energy Center LLC, Parkway Generation Essex, LLC, Chief Keystone Power II, LLC, Chief Conemaugh Power II, LLC, Walleye Power, LLC, Clean Energy Future—Trumbull, Waymart Wind Farm, L.P., Somerset Windpower, LLC, Mill Run Windpower, LLC, Meyersdale Windpower LLC, New Covert Generating Company, LLC, Backbone Mountain Windpower, LLC.

Description: Notice of Non-Material Change in Status of Backbone Mountain Windpower, LLC, et al.

Filed Date: 4/30/25.

Accession Number: 20250430-5720.

Comment Date: 5 p.m. ET 5/21/25.

Docket Numbers: ER10-2374-022; ER17-2059-013.

Applicants: Puget Sound Energy, Inc., Puget Sound Energy, Inc.

Description: Notice of Non-Material Change in Status of Puget Sound Energy, Inc., et al.

Filed Date: 4/30/25.

Accession Number: 20250430-5710.

Comment Date: 5 p.m. ET 5/21/25.

Docket Numbers: ER15-793-003.

Applicants: Southern Indiana Gas and Electric Company, Inc.

Description: Notice of Change in Status of Southern Indiana Gas and Electric Company, Inc.

Filed Date: 5/1/25.

Accession Number: 20250501-5418.

Comment Date: 5 p.m. ET 5/22/25.

Docket Numbers: ER16-1403-001; ER25-1220-001.

Applicants: Golden Fields Solar IV Bess LLC, Golden Fields Solar IV, LLC.

Description: Notice of Change in Status of Golden Fields Solar IV, LLC, et al.

Filed Date: 4/30/25.

Accession Number: 20250430-5711.

Comment Date: 5 p.m. ET 5/21/25.

Docket Numbers: ER19-2822-002; ER15-1065-005; ER15-1066-005; ER15-1676-005; ER16-892-004; ER16-893-005; ER16-1371-006; ER16-1990-007; ER17-43-004; ER17-44-004; ER17-239-005; ER17-962-002; ER17-2318-004; ER18-697-003; ER18-2516-003; ER19-2460-003; ER20-1014-003; ER20-1015-003; ER20-1996-007; ER20-2458-003; ER20-2472-002; ER21-207-002; ER21-285-003; ER21-1187-006; ER21-1188-006; ER21-1217-006; ER21-1218-006; ER21-1370-007; ER21-1916-005; ER21-1961-005; ER21-2911-002; ER21-2912-002; ER22-123-004; ER23-326-002; ER23-327-002; ER23-2684-001; ER23-2732-001; ER23-2813-003; ER23-2814-001; ER23-2815-001; ER23-2816-002; ER24-482-003; ER24-719-002; ER24-720-002; ER24-847-003; ER24-1386-002; ER24-2534-002; ER24-2535-002; ER24-2657-002; ER24-2986-003; ER24-3150-001; ER24-3151-001; ER25-1107-001.

Applicants: SloughHouse Solar, LLC, Speedway Solar, LLC, Rocking R Solar, LLC, Long Lake Solar, LLC, Blue Bird Solar, LLC, Gravel Pit Solar IV, LLC, Gravel Pit Solar III, LLC, Bartonsville Energy Facility, LLC, Sunlight Road Solar, L.L.C.,SJS 1 Storage, LLC, San Juan Solar 1, LLC, River Fork Solar, LLC, Rocket Solar, LLC, Horseshoe Solar, LLC, Elektron Solar, LLC, Castle Solar, LLC, Hunter Solar, LLC, Steel Solar, LLC, Arroyo Energy Storage LLC, Arroyo Solar LLC, Hecate Energy Highland LLC, Drew Solar-CA, LLC, Drew Solar, LLC, Big River Solar, LLC, Assembly Solar III, LLC, Assembly Solar II, LLC, St. James Solar, LLC, Iris Solar, LLC, Prairie State Solar, LLC, Dressor Plains Solar, LLC, Sigurd Solar LLC, Rancho Seco Solar, LLC, Rancho Seco Solar II LLC, Hunter Solar LLC, Assembly Solar I, LLC, Cove Mountain Solar 2, LLC, Cove Mountain Solar, LLC, DWW Solar II, LLC, Willow Springs Solar, LLC, Gray Hawk Solar, LLC, Cuyama Solar, LLC, MS Solar 2, LLC, TPE Alta Luna, LLC, Portal Ridge Solar C, LLC, Portal Ridge Solar B, LLC, North Star Solar PV LLC, 63SU 8ME LLC, 62SK 8ME LLC, Red Horse III, LLC, Balko Wind Transmission, LLC, Red Horse Wind 2, LLC, Balko Wind, LLC, Airport Solar LLC.

Description: Notice of Change in Status of Airport Solar LLC et al.

Filed Date: 4/30/25.

Accession Number: 20250430-5721.

Comment Date: 5 p.m. ET 5/21/25.

Docket Numbers: ER24-2663-003; ER10-1852-109; ER10-1951-082; ER11-4462-105; ER17-838-079; ER20-1980-012; ER20-2049-011; ER24-2664-003; ER25-1438-001.

Applicants: Dominguez Grid, LLC, Cedar Springs Wind IV, LLC, Cedar Springs Wind III, LLC, Cedar Springs Wind, LLC, NextEra Energy Marketing, LLC, NEPM II, LLC, NextEra Energy Services Massachusetts, LLC, Florida Power & Light Company, Anticline Wind, LLC.

Description: Notice of Change in Status of Anticline Wind, LLC, et al.

Filed Date: 4/30/25.

Accession Number: 20250430-5709.

Comment Date: 5 p.m. ET 5/21/25.

Docket Numbers: ER25-704-001; ER10-1972-034; ER10-1841-034; ER10-1907-033; ER10-1918-034; ER10-1950-034; ER10-1951-083; ER10-1970-034; ER10-2005-034; ER10-2078-032; ER11-4462-106; ER12-1660-033; ER13-2458-028; ER10-1852-110; ER16-1872-024; ER16-2506-026; ER17-838-080; ER17-2270-025; ER18-1771-024; ER18-2224-024; ER18-2246-023; ER19-987-021; ER19-1003-021; ER19-1393-021; ER19-1394-021; ER19-2373-017; ER19-2382-017; ER19-2398-019; ER19-2437-017; ER19-2461-017; ER20-122-015; ER20-1220-015; ER20-1796-003; ER20-1879-016; ER20-1987-016; ER20-2690-015; ER21-1320-011; ER21-1953-013; ER21-2048-013; ER21-2100-012; ER22-2536-008; ER22-2601-008; ER22-2634-008; ER23-568-008; ER23-2321-007; ER23-2324-003; ER23-2694-005; ER25-1317-002; ER25-1348-002; ER25-1349-002; ER25-1545-001; ER13-2461-027.

Applicants: Pheasant Run Wind, LLC, DG VDH BESS, LLC, Sebree Solar, LLC, New Madrid Solar, LLC, Salt Creek Wind LLC, Mammoth Plains Wind, LLC, Cereal City Solar, LLC, Cavalry Energy Center, LLC, Dunns Bridge Energy Storage, LLC, Big Cypress Solar, LLC, Buffalo Ridge Wind, LLC, Walleye Wind, LLC, Kossuth County Wind, LLC, Point Beach Solar, LLC, Sac County Wind, LLC, Heartland Divide Wind II, LLC, Crystal Lake Wind Energy III, LLC, Jordan Creek Wind Farm LLC, Cerro Gordo Wind, LLC, Oliver Wind I, LLC, Entergy Arkansas, LLC, Entergy Louisiana, LLC, Entergy Mississippi, LLC, Entergy New Orleans, LLC, Entergy Texas, Inc., Oliver Wind II, LLC, Crowned Ridge Interconnection, LLC, Crowned Ridge Wind, LLC, Emmons-Logan Wind, LLC, Hancock County Wind, LLC, Story County Wind, LLC, Ashtabula Wind I, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Florida Power & Light Company, Tuscola Wind II, LLC, Tuscola Bay Wind, LLC, NEPM II, LLC, White Oak Energy LLC, Ashtabula Wind II, LLC, NextEra Energy Duane Arnold, LLC, NextEra Energy Services Massachusetts, LLC, Garden Wind, LLC, FPL Energy North Dakota Wind II, LLC, FPL Energy North Dakota Wind, LLC, Butler Ridge Wind Energy Center, LLC, NextEra Energy Point Beach, LLC, Amite Solar, LLC.

Description: Notice of Change in Status of Amite Solar, LLC, et al.

Filed Date: 4/30/25.

Accession Number: 20250430-5723.

Comment Date: 5 p.m. ET 5/21/25.

Docket Numbers: ER25-796-001; ER24-2791-002; ER24-2794-004; ER25-1062-001; ER25-1232-001.

Applicants: Kola Energy Storage, LLC, Pluto Energy Storage, LLC, Minco II Energy Storage, LLC, Breckinridge Energy Storage, LLC, Jackson Fuller Energy Storage, LLC.

Description: Notice of Change in Status of Jackson Fuller Energy Storage, LLC, et al.

Filed Date: 5/1/25.

Accession Number: 20250501-5416.

Comment Date: 5 p.m. ET 5/22/25.

Docket Numbers: ER25-2175-000.

Applicants: PacifiCorp.

Description: Notice of Termination of Service Agreement No. 589 under FERC Electric Tariff Volume No. 11 of PacifiCorp.

Filed Date: 5/2/25.

Accession Number: 20250502-5244.

Comment Date: 5 p.m. ET 5/23/25.

Docket Numbers: ER25-2176-000.

Applicants: AEP Texas Inc.

Description: 205(d) Rate Filing: AEPTX-VESI 13 (Paradiso BESS) Generation Interconnection Agreement to be effective 4/18/2025.

Filed Date: 5/8/25.

Accession Number: 20250508-5028.

Comment Date: 5 p.m. ET 5/29/25.

Docket Numbers: ER25-2177-000.

Applicants: PJM Interconnection, L.L.C.

Description: 205(d) Rate Filing: NSA, Original Service Agreement No. 7647; Queue Position No. AG1-198 to be effective 7/8/2025.

Filed Date: 5/8/25.

Accession Number: 20250508-5032.

Comment Date: 5 p.m. ET 5/29/25.

Docket Numbers: ER25-2178-000.

Applicants: PJM Interconnection, L.L.C.

Description: 205(d) Rate Filing: Original GIA, Service Agreement No. 7654; Project Identifier No. AF2-013 to be effective 4/8/2025.

Filed Date: 5/8/25.

Accession Number: 20250508-5040.

Comment Date: 5 p.m. ET 5/29/25.

Docket Numbers: ER25-2179-000.

Applicants: AEP Texas Inc.

Description: Tariff Amendment: AEPTX-S&S Renewables (Ross) Generation Interconnection Agreement Cancellation to be effective 7/8/2025.

Filed Date: 5/8/25.

Accession Number: 20250508-5043.

Comment Date: 5 p.m. ET 5/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 8, 2025.
Carlos D. Clay,
Deputy Secretary.

[FR Doc. 2025-08534 Filed 5-14-25; 8:45 am]

BILLING CODE 6717-01-P